DEPARTMENT OF THE TREASURY

Submission for OMB Review; Comment Request

September 29, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Office, Department of the Treasury, Room 11000, 1750 Pennsylvania Avenue, NW., Washington, DC 20220.

DATES: Written comments should be received on or before November 6, 2003 to be assured of consideration.

Financial Crimes Enforcement Network (FinCEN)

OMB Number: 1506-0004.

Form Number: FinCEN 104 (Formerly Customs Form 4789).

Type of Review: Revision.

Title: Currency Transaction Reports.

Description: Financial institutions file Form 104 for currency transactions in excess of $10,000 a day pursuant to 31 U.S.C. 5313(a) and 31 CFR 103.22(a)(b). The form is used by criminal investigators, and taxation and regulatory enforcement authorities, during the course of investigations involving financial crimes.

Respondents: Business or other for-profit, not-for-profit institutions, Federal Government.

Estimated Number of Respondents/Recordkeeping: 119,000.

Estimated Burden Hours Per Respondent/Recordkeeping: 24 minutes.

Frequency of Response: Other (as required).

Estimated Total Reporting/Recordingkeeping Burden: 4,960,000 hours.

Clearance Officer: Steve Rudzinski (703) 905-3845, Financial Crimes Enforcement Network, 2070 Chain Bridge Road, Suite 200, Vienna, VA 22182.

OMB Reviewer: Joseph F. Lackey, Jr. (202) 395-7316, Office of Management and Budget, Room 10235, New Executive Office Building, Washington, DC 20503.

Lois K. Holland,
Treasury PRA Clearance Officer.

[FR Doc. 03-25379 Filed 10-6-03; 8:45 am]

BILLING CODE 4810-02-M